DEPARTMENT OF HOMELAND SECURITY

Federal Emergency Management Agency

[Docket No. FEMA-2008-0002]

National Advisory Council

AGENCY: Federal Emergency Management Agency, DHS.

ACTION: Notice of Federal Advisory Committee Meeting.

SUMMARY: This notice announces the date, time, location and agenda for the next meeting of the National Advisory Council (NAC). At the meeting, new members will be introduced and sworn in. The meeting will be open to the public.

DATES: Meeting Dates: Tuesday, February 12, 2008, 8:30 a.m. to 5 p.m. and Wednesday, February 13, 2008, 8:30 a.m. to 3:30 p.m. A public comment period will take place on the afternoon of February 13, 2008 between 2:15 p.m. and 2:45 p.m.

Comment Date: Written comments or requests to make oral presentations must be received by February 5, 2008.

ADDRESSES: The meeting will be held at the Washington Marriott Hotel, 1221 22nd Street, NW., Washington, DC 20037 in the Georgetown I/II meeting rooms. Persons wishing to make an oral presentation or who are unable to attend or speak at the meeting may submit written comments. Written comments and requests to make oral presentations at the meeting should be provided to the Designated Federal Officer, Alyson Price, at the address listed below and must be received by February 5, 2008. All submissions received must include the docket number: FEMA-2008-0002 and may be submitted by any one of the following methods:

Federal Rulemaking Portal: http://www.regulations.gov. Follow instructions for submitting comments on the Web site.

E-mail: FEMA-RULES@dhs.gov. Include docket number in the subject line of the message.

Facsimile: (866) 466-5370.

Mail: Alyson Price, Designated Federal Officer, Federal Emergency Management Agency, 500 C Street, SW., (E Street, 3rd Floor), Washington, DC 20472.

Hand Delivery/Courier: National Advisory Council, DFO c/o Rules Docket Clerk, Office of the Chief Counsel, Federal Emergency Management Agency, Room 835, 500 C Street, SW., Washington, DC 20472.

Instructions: All submissions received must include the docket number: FEMA-2008-0002. Comments received will also be posted without alteration at http://www.regulations.gov, including any personal information provided.

Docket: For access to the docket to read background documents or comments received by the National Advisory Council, go to http://www.regulations.gov.

FOR FURTHER INFORMATION CONTACT: Alyson Price, Designated Federal Officer, Federal Emergency Management Agency, 500 C Street, SW., (E Street, 3rd Floor), Washington, DC 20472, telephone 202-646-3746, fax 202-646-3061, and e-mail Alyson.Price@dhs.gov.

SUPPLEMENTARY INFORMATION: Notice of this meeting is given under the Federal Advisory Committee Act (FACA), Public Law 92-463, as amended (5 U.S.C. App. 1 et seq.). The NAC will be holding this meeting on Tuesday and Wednesday, February 12 and 13, 2008 in Georgetown I/II of the Washington Marriott Hotel, 1221 22nd Street, NW., Washington, DC 20037.

Tentative Agenda of Council Meeting, February 12-13, 2008

Tuesday, February 12, 2008

(1) Introduction and swearing-in of new members;

(2) Highlights/Updates from FEMA Headquarters;

(3) NAC Operations Overview;

(4) FEMA Administrator's remarks; and

(5) Council Discussion.

Wednesday, February 13, 2008

(1) Summary of previous day;

(2) Council Discussion;

(3) Public comment period; and

(4) Closing remarks/Next steps.

A final agenda will be posted on the NAC Web site prior to the meeting at http://www.fema.gov/about/nac/.

A public comment period will take place on February 13, 2008, between 2:15 p.m. and 2:45 p.m.

Public Attendance: The meeting is open to the public. Persons with disabilities who require special assistance should advise the Designated Federal Officer of their anticipated special needs as early as possible. Members of the public who wish to make comments on the afternoon of Wednesday, February 13, 2008 are requested to register in advance. In order to allow as many people as possible to speak, speakers are requested to limit their remarks to three minutes. For those wishing to submit written comments, please follow the procedure noted above.

Dated: January 17, 2008.
R. David Paulison,
Administrator, Federal Emergency Management Agency.

[FR Doc. E8-1220 Filed 1-23-08; 8:45 am]

BILLING CODE 9110-21-P